DEPARTMENT OF TRANSPORTATION

Federal Aviation Administration

14 CFR Part 39

[Docket No. 2000-NM-86-AD; Amendment 39-11656; AD 2000-07-02]

RIN 2120-AA64

Airworthiness Directives; McDonnell Douglas Model MD-11 Series Airplanes

AGENCY: Federal Aviation Administration, DOT.

ACTION: Final rule; request for comments.

SUMMARY: This amendment adopts a new airworthiness directive (AD) that is applicable to certain McDonnell Douglas Model MD-11 series airplanes. This action requires deactivation of the map light assemblies; or modification and reidentification of the insulation blankets adjacent to certain map light assemblies, if applicable, a general visual inspection to detect damage of the Captain, First Officer, and Right Observer map light assemblies, and follow-on actions. This amendment is prompted by incidents in which a broken or cracked light bulb housing of the First Officer map light was found. The actions specified in this AD are intended to detect a broken light bulb housing, which could expose the power contactor. An exposed power contactor could cause the Captain, First Officer, or Right Observer map light to short or overheat, which could result in smoke or fire in the cockpit.

DATES: Effective April 20, 2000.

The incorporation by reference of certain publications listed in the regulations is approved by the Director of the Federal Register as of April 20, 2000.

Comments for inclusion in the Rules Docket must be received on or before June 5, 2000.

ADDRESSES: Submit comments in triplicate to the Federal Aviation Administration (FAA), Transport Airplane Directorate, ANM-114, Attention: Rules Docket No. 2000-NM-86-AD, 1601 Lind Avenue, SW., Renton, Washington 98055-4056.

The service information referenced in this AD may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington; or at the FAA, Transport Airplane Directorate, Los Angeles Aircraft Certification Office, 3960 Paramount Boulevard, Lakewood, California 90712; or at the Office of the Federal Register, 800 North Capitol Street, NW., suite 700, Washington, DC.

FOR FURTHER INFORMATION CONTACT: Brett Portwood, Technical Specialist, Systems Safety and Integration, Systems and Equipment Branch, ANM-130L, FAA, Transport Airplane Directorate, Los Angeles Aircraft Certification Office, 3960 Paramount Boulevard, Lakewood, California 90712; telephone (562) 627-5350; fax (562) 627-5210.

SUPPLEMENTARY INFORMATION: As part of its practice of re-examining all aspects of the service experience of a particular aircraft whenever an accident occurs, the FAA has become aware of an incident in which a broken light bulb housing of the First Officer map light was found on a McDonnell Douglas Model MD-11 series airplane. This breakage exposed the power contactor that goes to the base of the light bulb and allowed the contactor to short circuit to the lamp housing mounting plate. In another incident on the same airplane model, the light bulb housing cracked without exposing the contactor. The cause of the breakage/cracking has not been determined. A broken light bulb housing, if not corrected, could expose the power contactor and cause the Captain, First Officer, or Right Observer map light to short or overheat, which could result in smoke or fire in the cockpit.

These incidents are not considered to be related to an accident that occurred off the coast of Nova Scotia involving a McDonnell Douglas Model MD-11 series airplane. The cause of that accident is still under investigation.

Other Relevant Rulemaking

The FAA, in conjunction with Boeing and operators of Model MD-11 series airplanes, is continuing to review all aspects of the service history of those airplanes to identify potential unsafe conditions and to take appropriate corrective actions. This AD is one of a series of actions identified during that process. The process is continuing and the FAA may consider additional rulemaking actions as further results of the review become available.

Explanation of Relevant Service Information

The FAA has reviewed and approved McDonnell Douglas Alert Service Bulletin MD11-33A069, dated March 10, 2000, which describes procedures for accomplishing either of the following actions:

• Deactivation of the map light assemblies by disconnecting, coiling, and stowing power wires to the Captain, First Officer, and Right Observer map light assemblies; or

• Modification and reidentification of the insulation blankets adjacent to the Captain and First Officer map light assemblies (for certain airplanes); a general visual inspection to detect damage of the Captain, First Officer, and Right Observer map light assemblies; and follow-on actions. The follow-on actions include repetitive inspections, replacement of the map light assembly with a new or serviceable light assembly; or deactivation of damaged map light assemblies; as applicable.

Explanation of the Requirements of the Rule

Since an unsafe condition has been identified that is likely to exist or develop on other McDonnell Douglas Model MD-11 series airplanes of the same type design, this AD is being issued to detect a broken light bulb housing, which could expose the power contactor. An exposed power contactor could result in the Captain, First Officer, or Right Observer map light shorting or overheating, and consequent smoke or fire in the cockpit. This AD requires accomplishment of the actions specified in the alert service bulletin described previously.

Interim Action

This is considered to be interim action. The FAA is continuing to investigate the existing design of the map light assemblies of certain configuration crew rest areas. In addition, the manufacturer has advised that it currently is developing a modification that will positively address the unsafe condition addressed by this AD. Once final action is identified, or once the modification is developed, approved, and available, the FAA may consider additional rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-86-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-07-02 McDonnell Douglas: Amendment 39-11656. Docket 2000-NM-86-AD.

Applicability: Model MD-11 series airplanes, as listed in McDonnell Douglas Alert Service Bulletin MD11-33A069, dated March 10, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To detect a broken light bulb housing and the resultant exposed power contactor, which could cause the Captain, First Officer, or Right Observer map light to short or overheat, and consequent smoke or fire in the cockpit, accomplish the following:

(a) Within 30 days after the effective date of this AD, accomplish the actions specified in either paragraph (a)(1), or (a)(2) or (a)(3) of this AD, as applicable, in accordance with McDonnell Douglas Alert Service Bulletin MD11-33A069, March 10, 2000.

Option 1 (Deactivate Map Light Assemblies)

(1) For Groups 1 and 2 airplanes identified in the alert service bulletin: Disconnect, coil, and stow power wires to each Captain, First Officer, and Right Observer map light assembly, until the requirements of paragraph (a)(2) or (a)(3) of this AD, as applicable, have been accomplished.

Note 2: Repetitive inspections of the deactivated map light assemblies are not required.

Option 2 (Inspect/Replace/Deactivate Map Light Assemblies)

(2) For Group 1 airplanes identified in the alert service bulletin: Modify and reidentify the insulation blankets adjacent to the Captain and First Officer map light assemblies; and perform a general visual inspection to detect damage of the Captain, First Officer, and Right Observer map light assemblies.

Note 3: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(i) Condition 1 (No Damage Found). If no damage is detected, repeat the general visual inspection of the map light assemblies and adjacent insulation blankets thereafter at intervals not to exceed 700 flight hours.

(ii) Condition 2 (Damage Found). If any damage is detected, prior to further flight, accomplish the actions specified in either paragraph (a)(2)(ii)(A) or (a)(2)(ii)(B) of this AD in accordance with the alert service bulletin.

(A) Option 1 (Replace Damaged Map Light Assemblies). Replace the map light assembly with a new or serviceable light assembly. Repeat the general visual inspection of the map light assemblies and adjacent insulation blankets thereafter at intervals not to exceed 700 flight hours.

(B) Option 2 (Deactivate Damaged Map Light Assemblies). Disconnect, coil, and stow power wires to each damaged Captain, First Officer, and Right Observer map light assembly, until the requirements of paragraph (a)(2)(ii)(A) of this AD have been accomplished.

(3) For Group 2 airplanes identified in the alert service bulletin: Perform a general visual inspection to detect damage of the Captain, First Officer, and Right Observer map light assemblies, and perform the actions specified in either paragraph (a)(2)(i) or (a)(2)(ii) of this AD, as applicable, at the time(s) indicated in that paragraph.

Note 4: For Group 2 airplanes identified in McDonnell Douglas Alert Service Bulletin MD11-33A069, dated March 10, 2000: Modification and reidentification of the insulation blankets are not required. Prior to delivery of Group 2 airplanes, the insulation blankets were modified.

Alternative Methods of Compliance

(b) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 5: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with McDonnell Douglas Alert Service Bulletin MD11-33A069, dated March 10, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Transport Airplane Directorate, Los Angeles Aircraft Certification Office, 3960 Paramount Boulevard, Lakewood, California 90712; or at the Office of the Federal Register, 800 North Capitol Street, NW., suite 700, Washington, DC.

(e) This amendment becomes effective on April 20, 2000.

Issued in Renton, Washington, on March 28, 2000.
John J. Hickey,
Manager, Transport Airplane Directorate, Aircraft Certification Service.

[FR Doc. 00-8133 Filed 4-4-00; 8:45 am]

BILLING CODE 4910-13-U